DEPARTMENT OF TRANSPORTATION

Federal Aviation Administration

[Summary Notice No. PE-2000-19]

Petitions for Exemption: Summary of Petitions Received; Dispositions of Petitions Issued

AGENCY: Federal Aviation Administration (FAA) DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before June 19, 2000.

ADDRESSES: Send comments on any petition in triplicate to: Federal Aviation Administration, Office of the Chief Counsel, Attn: Rule Docket (AGC-200), Petition Docket No. ____ 800 Independence Avenue, SW., Washington, DC 20591.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR part 11).

Issued in Washington, DC, on May 23, 2000.
Donald P. Byrne,
Assistant Chief Counsel for Regulations.

Petitions for Exemption

Docket No: 29986

Petitioner: LifePort, Inc.

Regulations Affected: 14 CFR 25.785(b) and 25.562.

Description of Relief Sought: To permit installation of a medical stretcher for carriage of non-ambulatory persons on a Cessna Citation 560XL airplane.

Docket No.: 29981.

Petitioner: Delta Air Lines, Inc.

Regulations Affected: 14 CFR § 25.857(c), 25.858, 121.314(c).

Description of Relief Sought: To allow Delta Air Lines to operate, until September 20, 2001, nine L-1011 airplanes beyond the cargo compartment modification deadline of March 19, 2001.

Docket No: 29941.

Petitioner: Hawaiian Airlines, Inc.

Regulations Affected: 14 CFR 25.857(c), 25.858, 121.314(c).

Description of Relief Sought: To allow Hawaiian Airlines to operate, until May 15, 2001, one DC10-10 airplane beyond the cargo compartment modification deadline of March 20, 2001.

Docket No: 28257.

Petitioner: Flight Structures.

Regulations Affected: 14 CFR 25.813(b), 25.857(e), 25.785(d), 25.1447(c)(3)(ii).

Description of Relief Sought: To allow carriage of one additional supernumerary increasing the total occupants to 9 on the Airbus Model A300-B4-103, -203 series airplanes.

Docket No: 29923.

Petitioner: Regional Airline Association.

Section of the FAR Affected: 14 CFR paragraphs 2 and 3 of appendix H to part 121.

Description of Relief Sought: To permit RAA-member airline to qualify pilots for initial or upgrade pilot-in-command simulation training and checking when the pilots are not currently serving as second-in-command in airplanes of the same group.

Dispositions of Petitions

Docket No.: 24052.

Petitioner: U.S. Navy Flight Demonstration Squadron a.k.a. The Blue Angels.

Section of the FAR Affected: 14 CFR 91.117(a) and (b), 91.119(c), and 91.303(c), (d), and (e).

Description of Relief Sought/Disposition: To permit the Blue Angels to conduct demonstration rehearsals involving low-level, high-speed, and acrobatic flight, subject to certain conditions and limitations. GRANT, 3/15/00, Exemption No. 4504F.

Docket No.: 28317.

Petitioner: Eagle Canyon Airlines, Inc.

Section of the FAR Affected: 14 CFR 135.143(c)(2).

Description of Relief Sought/Disposition: To permit ECA to operate certain Cessna aircraft under part 135 without a TSO-C112 (Mode S) transponder installed in the aircraft. GRANT, 3/15/00, Exemption No. 7147.

Docket No.: 29903.

Petitioner: Bain Aviation, Inc.

Section of the FAR Affected: 14 CFR 135.143(c)(2).

Description of Relief Sought/Disposition: To permit BAI to operate certain Cessna aircraft under part 135 without a TSO-C112 (Mode S) transponder installed in the aircraft. GRANT, 3/15/00, Exemption No. 7146.

Docket No.: 29952.

Petitioner: Frontier Flying Service, Inc.

Section of the FAR Affected: 14 CFR 135.143(c)(2).

Description of Relief Sought/Disposition: To permit Frontier to operate certain Cessna aircraft under part 135 without a TSO-C112 (Mode S) transponder installed in the aircraft. GRANT, 3/9/00, Exemption No. 7144.

Docket No.: 28174.

Petitioner: Air Carriage.

Section of the FAR Affected: 14 CFR 135.143(c)(2).

Description of Relief Sought/Disposition: To permit Air Carriage to operate certain Cessna aircraft under part 135 without a TSO-C112 (Mode S) transponder installed in the aircraft. GRANT, 3/9/00 Exemption No. 6108A.

Docket No.: 28787.

Petitioner: Ameriflight, Inc.

Section of the FAR Affected: 14 CFR 61.5(a) and (c) and 91.203(a) and (b).

Description of Relief Sought/Disposition: To permit Ameriflight to operate temporarily its aircraft without those aircraft's airworthiness and registration certificates onboard (and properly displayed in the case of airworthiness certificates) while obtaining replacements, subject to certain conditions and limitations. This exemption also permits Ameriflight's pilots to operate temporarily Ameriflight's aircraft without those pilots having their pilot and medical certificates in their personal possession, subject to certain conditions and limitations. GRANT, 3/3/00, Exemption No. 7143.

[FR Doc. 00-13369 Filed 5-26-00; 8:45 am]

BILLING CODE 4910-13-M